DEPARTMENT OF THE INTERIOR

Bureau of Land Management

[ID-933-1430-EU; I-017096 C, I-517 C, I-4427 C, I-9081 C, I-6941 C]

Termination of Desert Land Entry Classifications, Idaho

AGENCY: Bureau of Land Management, Interior.

ACTION: Notice.

SUMMARY: This notice terminates 5 Desert Land Entry Classifications so the land can be patented under Section 206 of the Federal Land Policy and Management Act of 1976.

EFFECTIVE DATE: May 24, 2001.

FOR FURTHER INFORMATION CONTACT: Catherine D. Foster, BLM Idaho State Office, 1387 S. Vinnell Way, Boise, Idaho 83709, 208-373-3863.

SUPPLEMENTARY INFORMATION: The following lands have been classified as suitable for Desert Land Entry. The classification and segregation, as it affects the following described lands, is hereby terminated:

T. 6 N., R. 5 W., B.M.

Section 2: SW¼NE¼, SE¼NW¼, W½SE¼ (I-017096 C);

Section 10: S½NE¼, NE¼SE¼ (I-517 C);

Section 10: S½SE¼ (I-9081 C);

Section 13: SE¼SW¼ (I-6941 C).

The following lands have been classified as non suitable for Desert Land Entry. The classification and segregation, as it affects the following described lands, is hereby terminated:

T. 6 N., R. 5 W., B.M.

Section 10: NW¼SE¼ (I-4427 C);

The area described above aggregates 440 acres in Payette County.

At 9 a.m. on May 24, 2001, the Desert Land Entry classifications identified above will be terminated. The lands will remain closed to location and entry under the public land laws and the general land laws, as the lands are currently segregated for exchange.

Dated: May 11, 2001.
Jimmie Buxton,
Branch Chief, Lands and Minerals.

[FR Doc. 01-13119 Filed 5-23-01; 8:45 am]

BILLING CODE 4310-GG-P